SOCIAL SECURITY ADMINISTRATION

Statement of Organization, Functions and Delegations of Authority

This statement amends Part T of the Statement of the Organization, Functions and Delegations of Authority which covers the Social Security Administration (SSA). Chapter TA covers the Deputy Commissioner for Disability and Income Security Programs. Notice is hereby given that Subchapter TAH, Office of Hearings and Appeals, is being amended to reflect a realignment of functional responsibilities within the Office of the Associate Commissioner and realignment and expansion of functional responsibilities in the Office of Management (TAHE). The new material and changes are as follows:

Section TAH.10 The Office of Hearings and Appeals—(Organization):

C. The Immediate Office of the Associate Commissioner for Hearings and Appeals (TAH).

Establish:

3. The Equal Employment Opportunity Staff (TAH-3).

H. The Office of Management (TAHE).

Abolish:

1. The Equal Employment Opportunity Staff (TAHE1).

6. The Division of Management Analysis and Employee Development (TAHE6).

Retitle:

5. The “Office Automation Support Staff “ as “Division of Technology Information Integration” (TAHE7).

Establish:

1. The Division of Management Analysis (TAHE8).

6. The Division of Training and Employee Development (TAHE9).

Section TAH.20 The Office Hearings and Appeals—(Functions):

C. The Immediate Office of the Associate Commissioner for Hearings and Appeals (TAH).

Establish:

3. The Equal Employment Opportunity Staff (TAH-3).

The Equal Employment Opportunity Staff (TAH-3) is responsible for OHA's Equal Employment Opportunity (EEO) Program. Plans, develops, implements and monitors OHA's Affirmative Action Program, and administers the EEO complaint process for OHA Headquarters. Provides guidance for, and monitoring of OHA regional EEO programs.

H. Office of Management (TAHE).

Delete sentences number 6, 9 and 10. Specifically, delete sentence #6 which reads:

“Plans, directs and implements an Equal Employment Opportunity (EEO) program within OHA.” In addition, delete sentences #9 and #10 which read as follows: “Plans, directs and provides administrative support services in the areas of safety and self-protection. Administers security programs and inspections, and coordinates with local law enforcement officials to ensure protection of OHA property and personnel, including emergency planning and security.”

Abolish in their entirety:

1. The Equal Employment Opportunity Staff (TAHE1).

6. The Division of Management Analysis and Employee Development (TAHE6).

Amend as follows:

3. The Division of Materiel Resource (TAHE4).

Add as the last two sentences of the functional statement: “Plans, directs, and provides administrative support services in the areas of safety and self-protection. Administers security programs and inspections, and coordinate with local law enforcement officials to ensure protection of OHA property and personnel, including emergency planning and security. Researches and develops the Family Friendly Workplace initiative for OHA, including childcare, eldercare, telecommuting centers, wellness programs, etc.”

Retitle and amend as follows:

5. The “Office Automation Support Staff ” as “Division of Technology Information Integration” (TAHE7).

The Division of Information Technology Integration leads the effort in developing OHA's Information Technology strategy consistent with SSA's system architecture. Represents OHA in various agency executive level meetings in planning and reviewing systems projects. Provides office automation and data processing support to all OHA components. Develops and coordinates functional requirements specifications for all new OHA systems and modifications to existing systems in direct support of the hearings and appeals workloads as well as administrative information systems. Develops proposed automation initiatives in response to user needs and new legislative requirements. Directs and coordinates user requirements through the Automation Planning Groups. Provides logistical support to the Office of Systems (OS) during the implementation of new applications and technology. Develops performance criteria, and approves the resulting system for operational acceptance. Provides systems support for the planning, design and development of functional requirements and the specification, validation and implementation of all OHA IT initiatives. Serves as liaison with ODISP, OS and other agency components on all long-range IT goals and objectives, and ensures that OHA's IT strategy, methodology and approaches are in agreement with SSA's Agency Strategic Plan, future process change initiatives/visions, System Architecture and Entrepreneurial Activities. Ensures that OHA systems related projects are incorporated in the Systems 5-Year Plans at appropriate times. Identifies OHA training needs with respect to systems activities, and coordinates with responsible OHA and/or other agency components to ensure end-users needs are met. Designs and conducts training, if necessary. Develops requirements and cost benefit analysis for the OHA ITS budget submissions. Evaluates OHA user requests for IT services, equipment and software. Monitors OHA's ITS small purchase procurements through the procurement cycle. Under the guidance of SSA's Systems Security directs the operations of the agency's automated access control program for OHA. Coordinates the agency's security initiatives in support of all OHA business processes. Coordinates security training and awareness activities for OHA. In conjunction with the Division of Materiel Resources, is responsible for the security, maintenance and integrity of the IT equipment inventory. Provides coordination and support to OS to ensure efficient and effective implementation and operation of the agency's nationwide telecommunications network used by OHA. Maintains liaison with OHA regional systems staff and Headquarters staff for the purpose of identifying operation problems or needs. and makes recommendations to OS to resolve outstanding issues. Coordinates and performs site preparation, workstation and server installations in Headquarters and the field. Coordinates and monitors maintenance issues for IT equipment nationwide. Performs e-mail administration for OHA Headquarters. Assists OS in performing e-mail administration for OHA field offices. Following guidance from the agency and coordinating with other Webmasters, performs OHA's Internet/Intranet Webmaster functions. Directs the operation of the Model OHA Office in Falls Church.

Establish:

1. The Division of Management Analysis (TAHE8):

The Division of Management Analysis advises the Director, Office of Management and the Associate Commissioner in all management areas involving management practices, management analysis, operational analysis and the resolution of management/employee concerns and problems. Plans, designs and administers evaluation programs and tracking systems to assess the efficiency and effectiveness of OHA operations in the field and Headquarters. Serves as the focal point of contact for reporting and monitoring strategic planning initiatives. Also serves as a point of contact for initiatives related to human resources, labor relations, employee recognition and communicates such issues to OHA managers. Coordinates the General Accounting Office, the Office of Inspector General, SSA and other Agencies' studies of OHA operations. Directs OHA's administrative delegations of authority and planning activities.

6. The Division of Training and Employee Development (TAHE9):

The Division of Training and Employee Development administers and leads OHA's employee development, career and succession planning programs, directs the general activities of the OHA National Training Center in Kansas City and manages the Learning Resource Center. Provides overall training leadership that reflects the needs of OHA and develops overall OHA training policy for the agency's strategic plans. Manages funding and other resources used to support the OHA training function. Provides technical assistance to components to conduct needs analysis, integrates component lists of training needs and prioritizes them. Decides what training vehicles are best for the training to be provided. Maintains technical leadership in training technology. Leads the overall OHA training evaluation program, assuring that the evaluation process is tied into the budget planning cycle so that expenditures can be accounted for in accordance with the requirements of the Office of Management and Budget. Plans annual training, estimates the funding needs, and ties funding requests and funding expenditures to strategic objectives and individual competencies.”

Dated: April 16, 2001.
Paul D. Barnes,
Deputy Commissioner for Human Resources.

[FR Doc. 01-10081 Filed 4-23-01; 8:45 am]

BILLING CODE 4191-02-U